NATIONAL SCIENCE FOUNDATION

Proposal Review Panel for Physics; Notice of Meeting

In accordance with the Federal Advisory Committee Act (Pub. L. 92-463, as amended), the National Science Foundation announces the following meeting:

NAME AND COMMITTEE CODE: LIGO Operations Review for the Division of Physics (1208)—LIGO Livingston Observatory Site Visit.

DATE AND TIME:

June 19, 2018; 8:30 a.m.-5:30 p.m.

June 20, 2018; 9:00 a.m.-5:30 p.m.

June 21, 2018; 9:00 a.m.-4:00 p.m.

PLACE: LIGO Livingston Observatory, 19100 Ligo Ln, Livingston, LA 70754.

TYPE OF MEETING: Part-Open.

CONTACT PERSON: Dr. Mark Coles, Program Director, Division of Physics, National Science Foundation, 2415 Eisenhower Avenue, Room W 9216, Alexandria, VA 22314; Telephone: (703) 292-4432.

PURPOSE OF MEETING: Site visit to provide an evaluation of the progress of the projects at the host site for the Division of Physics at the National Science Foundation.

AGENDA

June 19, 2018:
08:30 a.m.-09:15 a.m. Executive Session | CLOSED.
09:15 a.m.-09:45 a.m. Welcome | OPEN.
09:45 a.m.-10:30 a.m. LIGO Laboratory Management | OPEN.
10:30 a.m.-10:40 a.m. Break
10:40 a.m.-12:00 p.m. LIGO Detector Commissioning and Upgrades | OPEN.
12:00 p.m.-01:00 p.m. Lunch
01:00 p.m.-01:45 p.m. LIGO Scientific Program | OPEN.
01:45 p.m.-02:30 p.m. LIGO Computing | OPEN.
02:30 p.m.-03:15 p.m. LIGO Laboratory LIGO-India Program | OPEN.
03:15 p.m.-03:30 p.m. Break
03:30 p.m.-04:15 p.m. LIGO Laboratory Education and Public Outreach | OPEN.
04:15 p.m.-05:30 p.m. Panel Executive Session | CLOSED.
June 20, 2018:
09:00 a.m.-11:00 a.m. LIGO Laboratory Education and Public Outreach | OPEN.
11:00 a.m.-02:00 p.m. American Physical Society Ceremony | OPEN.
02:00 p.m.-04:00 p.m. LIGO Gravitational-wave Science; LIGO Laboratory Management/Budget I | OPEN.
04:00 p.m.-05:30 p.m. Executive Session | CLOSED.
June 21, 2018:
09:00 a.m.-10:00 a.m. Responses to Committee Questions | OPEN.
10:00 a.m.-12:00 p.m. LIGO Computing | OPEN.
12:00 p.m.-01:00 p.m. Lunch
01:00 p.m.-03:30 p.m. Executive Session | CLOSED.
03:30 p.m.-04:00 p.m. Close Out Briefing | OPEN.

REASON FOR CLOSING: The work being reviewed during closed portions of the site visit include information of a proprietary or confidential nature, including technical information; financial data, such as salaries and personal information concerning individuals associated with the project. These matters are exempt under 5 U.S.C. 552b(c), (4) and (6) of the Government in the Sunshine Act.

Dated: May 22, 2018.
Crystal Robinson,
Committee Management Officer.

[FR Doc. 2018-11271 Filed 5-24-18; 8:45 am]

BILLING CODE 7555-01-P